DEPARTMENT OF HEALTH AND HUMAN SERVICES

Administration for Children and Families

Submission for OMB Review; Comment Request

Title: Field Test of Social-Emotional Measures and Modified Assessment Measures for the Head Start National Reporting System.

OMB No.: New Collection.

Description: The Administration for Children and Families (ACF) of the Department of Health and Human Services (HHS) is requesting comments on plans to conduct the Field Test of Social-Emotional Measures and Modified Assessment Measures for the Head Start National Reporting System (HSNRS). This field test is being conducted under contract with Westat (with subcontractors Xtria and Pearson Educational Measurement) (HHS23320052902YC) to examine new and modified measures for HSNRS.

Purposes

The purposes of the field test are to expand NSNRS's coverage of the domain elements of the Head Start Outcomes Framework and to improve the performance of the current HSNRS assessment battery. ACF has been urged to expand the coverage of NSNRS to include non-cognitive domains, in recognition of the “whole child” orientation of Head Start, in particular, social and emotional development. To that end, the Technical Work Group of HSNRS has discussed and reviewed potential measures of social-emotional development and has identified several existing, ratings-based measures as candidates for field testing. Further, the Technical Work Group has also endorsed expanding the coverage of HSNRS to the Physical Health and Development domains of the Head Start Outcomes Framework. Finally, the Quality Assurance Study's findings, Technical Work Group recommendations and findings from psychometric analysis of first-year implementation data have suggested some areas for improvement to the current HSNRS assessment battery.

In addition, the field test will also examine the effectiveness of training procedures and relative feasibility of the selected measures with a diverse set of Head Start programs, staff, and children.

Teacher-Reported Measures of Social-Emotional Development

Five teacher-reported measures of social-emotional development will be field tested. These measures have been used in the Family and Child Experiences Survey (FACES) or National Head Start Impact Study (NHSIS), as listed below.

• Cooperative Classroom Behavior;

• Problem Behaviors;

• Preschool Learning Behavior Scale (PLBS);

• Student-Teacher Relationship Scale (STRS): Short form; and

• Adjustment Scales for Preschool Intervention (ASPI).

Modifications to Current HSNRS Assessment Battery

Modifications to the current HSNRS assessment battery include:

• A new language screener;

• New Letter Naming task; and

• New items in Early Math Skills task using manipulatives.

Health Records Extract

The field test will also examine the feasibility of collecting child health information from Head Start programs. It is intended to expand HSNRS coverage to include health status, child safety, and linkages to health care. Based on the collected information, indicators of health services provided by local Head Start programs can be developed. The child health information includes:

• Height;

• Weight;

• Immunization status;

• Dental care records; and

• Occurrences of child injuries requiring medical attention at each center.

Sample

The national probability sample of Head Start programs will consist of 30 programs, including four Native American programs, selected with probability proportional to size. From each program, up to 6 classrooms will be selected (each classroom will be taught by a different teacher). This will result in a sample of approximately 1,440 children and 180 Head Start teachers.

Training

A “training-the-trainers” approach will be used to train the field test participants. The participants will be certified in the field-tested measures and procedures and return to their programs to train local Head Start staff on the social-emotional measures.

The effectiveness of the “train-the-trainers” training procedures and materials for the field-tested assessment measures will be examined. Information from feedback surveys completed by training participants will be analyzed to find areas that need improvement.

Data Collection

Social-emotional development measures will be completed by the lead teacher of each classroom. In order to examine inter-rater reliability, teacher ratings will be collected independently by the lead teacher and by another staff member in the same classroom (e.g., an assistant teacher), if available and qualified.

For modified HSNRS child assessment measures, contractor field staff will conduct the field-test measures.

Respondents: Head Start Children and Head Start Staff

Annual Burden Estimates

Fall 2005
Instruments | Number of respondents | Number of responses per respondent | Average burden hours per response | Total burden hours
Training on Field Test Measures
Head Start Staff: Participate in Training-the-Trainers Training | 30 | 1 | 8 | 240
Head Start Staff: Review Self-Study Materials on Teacher-Reported Ratings of Social-Emotional Development | 360 | 1 | 1 | 360
Head Start Trainers: Complete Feedback Survey on Training Procedures | 30 | 1 | 1/12 | 2.5
Head Start Staff: Complete Feedback Survey on Training Procedures | 360 | 1 | 1/12 | 30
Field Test of Teacher-Reported Ratings of Social-Emotional Development
Head Start Lead Teacher: Complete Teacher-Reported Ratings | 180 | 8 | ¼ | 360
Head Start Classroom Staff: Complete Parallel Teacher-Reported Ratings | 180 | 8 | ¼ | 360
Head Start Children: Participate in Social-Emotional Skills Direct Assessment | 270 | 1 | ¼ | 67.5
Field Test of Modifications to Current HSNRS Direct Child Assessment Battery
Head Start Children: Participate in Modified Measures | 1,440 | 1 | ¼ | 360
Field Test of Collection of Child Health Information
Head Start Staff: Collect & Submit Child Health Info | 30 | 48 | 1/12 | 120
Head Start Staff: Demonstrate Procedures for Collecting Height and Weight Information | 30 | 3 | 1/12 | 7.5
Head Start Children: Participate in Demonstration of Procedures for Collecting Height and Weight Information | 30 | 3 | 1/12 | 7.5
Head Start Staff: Complete Feedback Survey on Child Health Data collection Procedures | 30 | 1 | 1/12 | 2.5
Fall 2005 Totals | 2,970 |  |  | 1,917.5

Spring 2006
Instruments | Number of respondents | Number of responses per respondent | Average burden hours per response | Total burden hours
Training on Field Test Measures
Head Start Staff: Participate in Training-the-Trainers Training | 30 | 1 | 8 | 240
Head Start Staff: Review Self-Study Materials on Teacher-Reported Ratings of Social-Emotional Development | 360 | 1 | 1 | 360
Head Start Trainers: Complete Feedback Survey on Training Procedures | 30 | 1 | 1/12 | 2.5
Field Test of Teacher-Reported Ratings of Social-Emotional Development
Head Start Lead Teacher: Complete Teacher-Reported Ratings | 180 | 8 | ¼ | 360
Head Start Classroom Staff: Complete Parallel Teacher-Reported Ratings | 180 | 8 | ¼ | 360
Head Start Children: Participate in Social-Emotional Skills Direct Assessment | 270 | 1 | ¼ | 67.5
Field Test of Modifications to Current HSNRS Direct Child Assessment Battery
Head Start Children: Participate in Modified Measures | 1,440 | 1 | ¼ | 360
Field Test of Collection of Child Health Information
Head Start Staff: Collect & Submit Child Health Info | 30 | 48 | 1/12 | 120
Spring 2006 Totals | 2,520 |  |  | 1,870
Grand Totals for Fall 2005 & Spring 2006 | 5,490 |  |  | 3,787.5

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to following: Office of Management and Budget, Paperwork Reduction Project, Attn: Desk Officer for ACF, E-mail address: Katherine_T._Astrich@omb.eop.gov.

Dated: November 30, 2005.
Robert Sargis,
Reports Clearance Officer.

[FR Doc. 05-23644 Filed 12-5-05; 8:45 am]

BILLING CODE 4184-01-M